FEDERAL EMERGENCY MANAGEMENT AGENCY

[FEMA-1193-DR]

Government of Guam; Amendment to Notice of a Major Disaster Declaration

AGENCY: Federal Emergency Management Agency (FEMA).

ACTION: Notice.

SUMMARY: This notice amends the notice of a major disaster for Government of Guam (FEMA-1193-DR), dated December 17, 1997, and related determinations.

EFFECTIVE DATE: December 6, 2000.

FOR FURTHER INFORMATION CONTACT: Madge Dale, Response and Recovery Directorate, Federal Emergency Management Agency, Washington, DC 20472, (202) 646-3630.

SUPPLEMENTARY INFORMATION: Notice is hereby given that the cost share arrangement concerning Federal funds provided under the authority of the Robert T. Stafford Disaster Relief and Emergency Assistance Act, 42 U.S.C. 5121, et seq., as amended by the Disaster Mitigation Act of 2000, Pub. L. No. 106-390, 114 Stat. 1552 (2000) and the Insular Areas Act (48 U.S.C. 1469a (d) for the Public Assistance program is adjusted at 100 percent Federal funding. This adjustment applies to eligible costs associated with Categories A and B (debris removal and emergency protective measures) under the Public Assistance program. All other cost sharing adjustments under FEMA-1193-DR remain the same.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

James L. Witt,
Director.

[FR Doc. 00-32214 Filed 12-18-00; 8:45 am]

BILLING CODE 6718-02-P